DEPARTMENT OF TRANSPORTATION

Federal Aviation Administration

14 CFR Part 39

[Docket No. FAA-2005-20511; Directorate Identifier 2004-SW-32-AD]

RIN 2120-AA64

Airworthiness Directives; Agusta S.p.A. Model A109E Helicopters

AGENCY: Federal Aviation Administration, DOT.

ACTION: Notice of proposed rulemaking (NPRM).

SUMMARY: This document proposes adopting a new airworthiness directive (AD) for Agusta S.p.A. (Agusta) Model A109E helicopters. This proposal would require, within 5 hours time-in-service (TIS), locating relay K7212 and its associated cable in the overhead panel assembly and visually inspecting the electrical cable in the splice area for arcing or burns. If arcing or burns are found, this proposal would require, before further flight, replacing an unairworthy cable with an airworthy cable kit. This proposal is prompted by an overhead panel inspection report of incorrect crimping of the pins on the cable that connects to the relay. An electrical cable fault during assembly could result in arcing or burning of the cable junction at a relay in the overhead electrical panel. The actions specified by this proposed AD are intended to detect arcing or burns of the cable or relay and to prevent burning of the cable junction at a relay, a fire in the cockpit, and subsequent loss of control of the helicopter.

DATES: Comments must be received on or before May 9, 2005.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: (202) 493-2251; or

• Hand Delivery: Room PL-401 on the plaza level of the Nassif Building, 400 Seventh Street, SW., Washington, DC, between 9 a.m. and 5 p.m., Monday through Friday, except Federal holidays.

You may get the service information identified in this proposed AD from Agusta, 21017 Cascina Costa di Samarate (VA) Italy, Via Giovanni Agusta 520, telephone 39 (0331) 229111, fax 39 (0331) 229605-222595.

You may examine the comments to this proposed AD in the AD docket on the Internet at http://dms.dot.gov.

FOR FURTHER INFORMATION CONTACT: Carroll Wright, Aviation Safety Engineer, FAA, Rotorcraft Directorate, Regulations and Guidance Group, Fort Worth, Texas 76193-0111, telephone (817) 222-5120, fax (817) 222-5961.

SUPPLEMENTARY INFORMATION:

Comments Invited

We invite you to submit any written data, views, or arguments regarding this proposed AD. Send your comments to the address listed under the caption ADDRESSES. Include the docket number “FAA-2005-20511, Directorate Identifier 2004-SW-32-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78), or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation NASSIF Building in Room PL-401 at 400 Seventh Street, SW., Washington, DC. Comments will be available in the AD docket shortly after the DMS receives them.

Discussion

Ente Nazionale per l'Aiazione Civile (ENAC), the airworthiness authority for Italy, notified the FAA that an unsafe condition may exist on Agusta Model A109E helicopters. ENAC advises carrying out the controls and modification called for by Agusta Bollettino Tecnico No. 109EP-22, dated November 12, 2001 (BT 109EP-22).

Agusta has issued BT 109EP-22, which specifies visually inspecting the cable for the possible presence of arcing or burns. If the presence of arcing or burns are found, the BT specifies modifying the direct current electrical system bus bar connections with a kit, P/N 109-0823-01-101.

ENAC classified this service bulletin as mandatory and issued AD No. 2001-481, dated November 13, 2001, to ensure the continued airworthiness of these helicopters in Italy.

This helicopter model is manufactured in Italy and is type certificated for operation in the United States under the provisions of 14 CFR 21.29 and the applicable bilateral agreement. Pursuant to the applicable bilateral agreement, Italy has kept us informed of the situation described above. We have examined the findings of ENAC, reviewed all available information, and determined that AD action is necessary for products of this type design that are certificated for operation in the United States.

This previously described unsafe condition is likely to exist or develop on other helicopters of the same type design registered in the United States. Therefore, the proposed AD would require, within 5 hours TIS, visually inspecting the cable, P/N 109-0753-10, for arcing and burns in the splice area where it connects to relay K7212. If no arcing or burns are found, no further action would be required. If arcing or burns are found, this AD would require, before further flight, replacing the cable with an airworthy cable kit, P/N 109-0823-01-101, and testing the electrical system. The actions would be required to be done by following the service bulletin described previously.

We estimate that this proposed AD would affect 12 helicopters of U.S. registry. The proposed actions would take about 1/2 work hour to visually inspect and 2.5 work hours to replace the cable per helicopter at an average labor rate of $65 per work hour. Required parts would cost about $707. Based on these figures, we estimate the total cost impact of the proposed AD on U.S. operators to be $10,824 assuming the cable would be replaced on the entire fleet.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Augusta S.p.A: Docket No. FAA-2005-20511; Directorate Identifier 2004-SW-32-AD.

Applicability: Model A109E helicopters, serial numbers (S/N) 11084 through 11113 except S/N 11096, 11103, 11105, 11106, 11107, 11110, and 11111, certificated in any category.

Compliance: Required as indicated, unless accomplished previously.

To detect arcing or burns of the cable or relay and to prevent burning of the cable junction at a relay, a fire in the cockpit, and subsequent loss of control of the helicopter, do the following:

(a) Within 5 hours time-in-service, visually inspect the cable, part number (P/N) 109-0753-10, for arcing and burns in the splice area where it connects to relay K7212. Refer to Figures 1 and 3 of the Agusta Bollettino Tecnico No. 109EP-22, dated November 12, 2001 (ABT) for the location of the cable and the relay in the cockpit overhead panel.

(b) If arcing or burns are found, before further flight, replace the cable, P/N 109-0753-10, with an airworthy cable kit, P/N 109-0823-01-101 and test the electrical system by following the Compliance Instructions, Part II, of the ABT.

(c) To request a different method of compliance or a different compliance time for this AD, follow the procedures in 14 CFR 39.19. Contact the Safety Management Group, Rotorcraft Directorate, FAA, for information about previously approved alternative methods of compliance.

Note: The subject of this AD is addressed in Ente Nazionale per l'Aviazione Civile (Italy) AD 2001-481, dated November 13, 2001.

Issued in Fort Worth, Texas, on March 1, 2005.
David A. Downey,
Manager, Rotorcraft Directorate, Aircraft Certification Service.

[FR Doc. 05-4405 Filed 3-7-05; 8:45 am]

BILLING CODE 4910-13-P